DEPARTMENT OF ENERGY

Federal Energy Regulatory Commission

[Project No. 2482-078]

Erie Boulevard Hydropower, L.P.; Notice of Availability of Environmental Assessment

July 30, 2008.

An environmental assessment (EA) is available for public review. The EA was prepared for an application filed by Erie Boulevard Hydropower, L.P on April 21, 2008, requesting the Commission's authorization to permit the Saratoga County Water Authority (SCWA) to withdraw water at a rate of 14 million gallons per day from the Sherman Island reservoir for municipal use.

The EA evaluates the environmental impacts that would result from permitting the SCWA to withdraw water from the Sherman Island reservoir. The proposal would include the construction of a screened intake facility placed on the bottom of the reservoir and a section of buried pipe that would extend to a pumping station located outside the project boundary. The EA finds that approval of the application would not constitute a major federal action significantly affecting the quality of the human environment.

A copy of the EA is attached to a Commission order titled “Order Approving Non-Project Use of Lands and Waters”, issued July 30, 2008 and is available for review at the Commission in the Public Reference Room, or it may be viewed on the Commission's Web site at http://www.ferc.gov using the eLibrary link. Enter the docket number “P-2482” in the docket field to access the document. For assistance, call toll-free 1-(866)-208-3372 or (202) 502-8659 (for TTY).

Kimberly D. Bose,
Secretary.

[FR Doc. E8-18059 Filed 8-6-08; 8:45 am]

BILLING CODE 6717-01-P